DEPARTMENT OF COMMERCE

National Oceanic and Atmospheric Administration

RIN 0648-XD80

Nominations for the 2008 Annual Sustainable Fisheries Leadership Awards

AGENCY: National Marine Fisheries Service (NMFS), National Oceanic and Atmospheric Administration (NOAA), Commerce.

ACTION: Notice; request for nominations.

SUMMARY: In 2006, NOAA established the Sustainable Fisheries Leadership Awards Program to annually recognize outstanding performances, achievements and leadership by industries, organizations and individuals who promote best stewardship practices for the sustainable use of living marine resources and ecosystems, and who have fostered change and inspired a stewardship ethic within their community. This notice solicits nominations of qualified individuals for the third annual Sustainable Fisheries Leadership Awards in six award categories listed in this Notice. NMFS has partnered with the Fish for the Future Foundation for this awards program.

DATES: Nomination forms and required supporting materials must be received on or before February 11, 2008.

ADDRESSES: Nominations should be sent electronically to the Fish for the Future Foundation, nominations@fish4thefuturefoundation.org. Nominations can also be mailed to Sustainable Fisheries Leadership Awards, ℅ Fish for the Future Foundation, 3382 Gunston Road, Alexandria, VA 22302, or faxed to (703) 379-5777. All information and official nomination forms can be accessed electronically at the Fish for the Future Foundation website www.fish4thefuturefoundation.org or NMFS website www.nmfs.noaa.gov/awards/.

FOR FURTHER INFORMATION CONTACT: Michele Shea, Fish for the Future Foundation, (703) 379-6101, Michele.Shea@fish4thefuturefoundation.org.

SUPPLEMENTARY INFORMATION: Established by NMFS, the Sustainable Fisheries Leadership Awards reflect the values and principles of NOAA and its mission to ensure sustainable management of U.S. fishery resources for the benefit of our Nation. NMFS has partnered with the Fish for the Future Foundation, an Internal Revenue Service-approved non-profit organization, to assist with the awards program. The Fish for the Future Foundation is dedicated to promoting education among the American public on the need for and importance of a vibrant, sustainable fishing industry.

The Sustainable Fisheries Leadership Awards Program is open to fishing industry sectors, organizations, individuals, and state, local and federal government agencies and their employees. Organizations, individuals and agencies cannot nominate themselves. A nominee cannot be nominated for more than one award category. International entities or employees of NMFS are not eligible to receive an award under any category. Presenting an award under each of the six categories will be entirely dependent on the pool nominations received and NMFS' determination of their qualifications. As such, there may be years in which an award is not presented under one or more of the categories.

Nominated through a public process, nominees will be considered for the following categories: Special Recognition Award, Stewardship & Sustainability Award, Conservation Partnership Award, Science, Research & Technology Award, Coastal Habitat Restoration Award, and Public Education, Community Service & Media Award.

Nominations must be submitted on the official nomination form available at www.nmfs.noaa.gov/awards/ or www.fish4thefuturefoundation.org, and submitted electronically, mailed or faxed to Fish for the Future Foundation (see DATES and ADDRESSES). Relevant supporting materials, not to exceed 10 pages in length, may be submitted along with the nomination form. At least one reference is required however no more than three references or endorsements will be accepted or considered by the review panel. Nominations will be reviewed by the Marine Fisheries Advisory Committee (a federal advisory group established to advise the Secretary of Commerce on living marine resource issues) as well as NMFS leadership, making recommendations to the Assistant Administrator for Fisheries. Final selection of award recipients is made by the Assistant Administrator for Fisheries and the Under Secretary of Commerce for Oceans and Atmosphere.

The following award categories are open for nominations:

Special Recognition Award — This award honors an individual who has demonstrated a life time achievement in innovative management and outstanding leadership for the stewardship and sustainable use of living marine resources.

Stewardship & Sustainability Award — This award recognizes excellence in promoting responsible stewardship and innovative management for long-term social, economic and biological sustainability of living marine resources.

Conservation Partnership Award — This award recognizes outstanding achievement in cooperative and collaborative work among stakeholder groups to foster best practices in sustainable living marine resources management.

Science, Research & Technology Award — This award recognizes excellence in the field of applied fisheries research. Nominations will be considered for advancements in technology to improve fisheries monitoring, reduce bycatch, protect habitat, conserve protected species, and enhance fishing operations as well as other technological advances that reduce the impacts of human activity on the marine environment.

Coastal Habitat Restoration Award — This award recognizes significant achievements made in coastal habitat restoration, including the development of innovative approaches and community based support necessary to accomplish the ambitious goals inherent with these projects.

Public Education, Community Service & Media Award — This award recognizes efforts to inform the general public about marine fisheries and living marine resources in the United States, or efforts to support the nation's fishing communities through community service.

Evaluation of nominations will include but are not limited to the following criteria:

Leadership — the individual or the overall team effort that has been demonstrated over a sustained period of time in support of the stewardship and sustained use of living marine resources.

Impact on Stewardship — the degree of stewardship and conservation ethics and practices fostered within the larger community of living marine fisheries stakeholders and users.

Ecological Significance — the impact and benefit to the overall health and abundance provided to living marine resources.

Long-term Significance — the impact to the science, management and economic sustainability of living marine resources.

These awards are presented annually. This is the third year of the Sustainable Fisheries Leadership Awards. Information on last year's awards and award recipients can be found at www.nmfs.noaa.gov/awards.

Dated: November 6, 2007.
William T. Hogarth,
Assistant Administrator for Fisheries, National Marine Fisheries Service.

[FR Doc. E7-22145 Filed 11-9-07; 8:45 am]

BILLING CODE 3510-22-S